DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment June 24, 2008-August 7, 2008
Firm | Address | Date accepted for filing | Products
Metalworks Worldwide Inc. | 3180 Berea Rd., Cleveland, OH 44111 | 6/24/2008 | Stamped parts of steel and aluminum.
Driv-Lok, Inc. | 1140 Park Avenue, Sycamore, IL 60178 | 7/28/2008 | Metal fabricated press fit fasteners including pins, studs and dowels.
Washington Marble Works, Inc. | 1016 Zchinder Street, Sumner, WA 98390 | 7/31/2008 | Granite countertops as well as fireplaces and other custom products made from tile, limestone, and travertine.
Metal Guru, Inc. dba Vicious Cycles | 205 South Ohioville Road, New Paltz, NY 12561 | 8/7/2008 | Titanium and steel bicycles, and bicycle accessories. Paint and repaint services.
Master Tech Tool, Inc. | 4539 Prime Parkway, McHenry, IL 60050-7000 | 6/27/2008 | Compression and plastic injection molds.
Electric Motors and Specialties, Inc. | 701 W. King St., Garrett, IN 46738 | 6/27/2008 | Unit bearing, cast iron electric motors.
Intronics, Inc. | 1400 Providence Highway, Norwood, MA 02062 | 6/30/2008 | Standard and custom analog function modules.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: August 19, 2008.
William P. Kittredge,
Program Officer for TAA.

[FR Doc. E8-19615 Filed 8-27-08; 8:45 am]

BILLING CODE 3510-24-P